DEPARTMENT OF HEALTH AND HUMAN SERVICES

National Institutes of Health

National Institute of Mental Health; Notice of Closed Meeting

Pursuant to section 10(d) of the Federal Advisory Committee Act, as amended (5 U.S.C. App.), notice is hereby given of a meeting of the National Advisory Mental Health Council.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Mental Health Council.

Date: August 4, 2015.

Time: 2:00 p.m. to 4:00 p.m.

Agenda: To review and evaluate grant applications.

Place: National Institutes of Health, Neuroscience Center, Conference Rooms A1/A2, 6001 Executive Boulevard, Rockville, MD 20852 (Telephone Conference Call).

Contact Person: Tracy Waldeck, Ph.D., Chief, Extramural Policy Branch, DEA, National Institute of Mental Health, NIH, Neuroscience Center, 6001 Executive Blvd., Room 6160, MSC 9607, Bethesda, MD 20892-9607, 301-443-5047, waldeckt@mail.nih.gov.

Information is also available on the Institute's/Center's home page: http://www.nimh.nih.gov/about/advisory-boards-and-groups/namhc/index.shtml, where an agenda and any additional information for the meeting will be posted when available.

(Catalogue of Federal Domestic Assistance Program No. 93.242, Mental Health Research Grants, National Institutes of Health, HHS)

Dated: June 30, 2015.
Carolyn Baum,
Program Analyst, Office of Federal Advisory Committee Policy.

[FR Doc. 2015-16502 Filed 7-6-15; 8:45 am]

BILLING CODE 4140-01-P